DEPARTMENT OF JUSTICE

Antitrust Division

Notice Pursuant to the National Cooperative Research and Production Act of 1993—TM Forum

Notice is hereby given that, on October 27, 2022, pursuant to Section 6(a) of the National Cooperative Research and Production Act of 1993, 15 U.S.C. 4301 et seq. (“the Act”), TM Forum, A New Jersey Non-Profit Corporation (“the Forum”), filed written notifications simultaneously with the Attorney General and the Federal Trade Commission disclosing changes in its membership. The notifications were filed for the purpose of extending the Act's provisions limiting the recovery of antitrust plaintiffs to actual damages under specified circumstances.

Specifically, the following entities have become members of the Forum: Russell Reynolds Associates, Inc., New York, NY; Fibrasil infraestrutura e fibra otica S.A., São Paulo, BRAZIL; Hoonar Tekwurks Consulting LLP, London, UNITED KINGDOM; Dotlines Pte Ltd., Singapore, SINGAPORE; Digital Nasional Berhad, Kuala Lumpur, MALAYSIA; Telecom Infrastructure North, Ha Noi City, VIETNAM; Shaanxi Fast Gear Co., LTD, Xi'an, PEOPLE'S REPUBLIC OF CHINA; Aussie Broadband Limited, Morwell, AUSTRALIA; Telemovil El Salvador, S,A de C.V., Tuscania, EL SALVADOR; Millicom Tigo Guatemala, Santa Catarina Pinula, GUATEMALA; Telefónica Celular del Paraguay SAE, Asuncion, PARAGUAY; Millicom Cable Costa Rica, S.A., San Jose, COSTA RICA; Telefonía Celular de Nicaragua, S.A., Managua, NICARAGUA; Millicom International Cellular S.A., Luxembourg, LUXEMBOURG; Vitrifi Limited, London, UNITED KINGDOM; Google, Mountain View, CA; Huazhong University of Science and Technology, Wuhan, PEOPLE'S REPUBLIC OF CHINA; University College London School of Management, London, UNITED KINGDOM; Ikue Limited, Bristol, UNITED KINGDOM; Feenix Communications Limited, Auckland, NEW ZEALAND; B-YOND, Frisco, TX; GigaComm Pty Ltd, Southbank, AUSTRALIA; Agnity Communications, Inc., Fremont, CA; Echo5G, Cumming, GA; Sofiène Kamoun, Québec, CANADA; Automatum, Campinas, BRAZIL; LigaData, Palo Alto, CA; Econet Wireless Zimbabwe, Harare, ZIMBABWE.

Also, the following members have changed their names:

INTRASOFT International S.A, NETCOMPANY—INTRASOFT S.A., Luxembourg, LUXEMBOURG; Axiata Digital Labs Pte Ltd, AXIATA DIGITAL LABS (Pvt) Ltd, Colombo, SRI LANKA; GTD Larga Distancia, Grupo GTD, Santiago, CHILE; Reliance Jio Infocomm Ltd, Jio Platforms Limited, Navi Mumbai, INDIA; NOS Technology—Concepção, Construção e Gestão de Redes de Comunicações, S.A., NOS Technology, Porto, PORTUGAL.

In addition, the following parties have withdrawn as parties to this venture: GWDG, Gesellschaft für wissenschaftliche Datenverarbeitung mbH Göttingen, Gottingen, GERMANY; VOCUS PTY LTD, Melbourne, AUSTRALIA; Altiostar, Tewksbury, MA; Apttus Corporation, San Mateo, CA; Beakwise Inc., Ümraniye, TURKEY; Boom Broadband Limited, Liverpool, UNITED KINGDOM; Business International Partners, Montevideo, URUGUAY; C3.ai, Redwood City, CA; Dawiyat, Riyadh, SAUDI ARABIA; DGIT, Prahran, AUSTRALIA; EDX, Eugene, OR; Evolving Systems, Englewood, CO; Gartner, Stamford, CT; Latro Services, Chantilly, VA; MIND C.T.I. LTD, Yoqneam Ilit, ISRAEL; PCCW Global, Wan Chai, HONG KONG-CHINA; Retixa, Warsaw, POLAND; SMART COMMUNICATIONS, INC., Makati City, PHILIPPINES; Statflo Inc., Toronto, CANADA; TAWAL, Riyadh, SAUDI ARABIA; TelcoDR, Austin, TX; Urban Economic, London, UNITED KINGDOM; Vietnam Digital Transformation Ecosystem, Ha Noi, VIETNAM; Zhongguancun IQ Alliance for Software Services Industry, Beijing, PEOPLE'S REPUBLIC OF CHINA.

No other changes have been made in either the membership or planned activity of the group research project. Membership in this group research project remains open, and the Forum intends to file additional written notifications disclosing all changes in membership.

On October 21, 1988, the Forum filed its original notification pursuant to Section 6(a) of the Act. The Department of Justice published a notice in the Federal Register pursuant to Section 6(b) of the Act on December 8, 1988 (53 FR 49615).

The last notification was filed with the Department on August 1, 2022. A notice was published in the Federal Register pursuant to Section 6(b) of the Act on August 30, 2022 (87 FR 53004).

Suzanne Morris,
Deputy Director, Civil Enforcement Operations, Antitrust Division.

[FR Doc. 2022-25500 Filed 11-22-22; 8:45 am]

BILLING CODE 4410-11-P